DEPARTMENT OF ENERGY

Federal Energy Regulatory Commission

[Project No. 2407-132]

Alabama Power Company; Notice of Application for Amendment of License and Soliciting Comments, Motions To Intervene, and Protests

October 29, 2009.

Take notice that the following hydroelectric application has been filed with the Commission and is available for public inspection:

a. Application Type: Request for Waiver.

b. Project No.: 2407-132.

c. Date Filed: October 28, 2009.

d. Applicant: Alabama Power Company.

e. Name of Project: The Yates and Thurlow Project.

f. Location of Project: The Yates and Thurlow Project is located on the Tallapoosa River in Tallapoosa and Elmore Counties, Alabama.

g. Filed Pursuant to: Federal Power Act, 16 U.S.C. 791a-825r.

h. Applicant Contact: Keith Bryant, Alabama Power Company, 600 N. 18th Street, Birmingham, AL 35203-8180, (205) 257-1403.

i. FERC Contact: Henry Woo, (202) 502-8872.

j. Deadline for filing comments, protests, or motions to intervene: November 20, 2009.

All documents (original and eight copies) should be filed with: Kimberly D. Bose, Secretary, Federal Energy Regulatory Commission, 888 First Street, NE., Washington, DC 20426.

Comments, protests and interventions may be filed electronically via the Internet in lieu of paper. See, 18 CFR 385.2001(a)(1)(iii) and the instructions on the Commission's Web site at http://www.ferc.gov under the “e-Filing” link. The Commission strongly encourages electronic filings.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency. A copy of any motion to intervene must also be served upon each representative of the Applicant specified in the particular application.

k. Background and Description of Request: The Alabama Power Company (APC) is requesting a temporary variance of the reservoir drawdown limits of the Yates and Thurlow Project license. Article 402 of the license requires that the licensee operate the project so that maximum drawdowns do not exceed 1 foot at the Thurlow impoundment below normal pool elevation of 288.7 feet mean sea level. Limits on impoundment elevations may be temporarily modified for short periods for project maintenance purposes upon mutual agreement between the licensee and the Alabama Department of Conservation and Natural Resources (ADCNR). APC requests that it be allowed to draw down the Thurlow pool to within one foot of elevation 277.5 feet for a period not to exceed 90 days between December 1, 2009 and March 15, 2010. Included in APC's request was concurrence received from the Alabama Department of Conservation and Natural Resources

By order issued April 1, 1996, the Commission defined a temporary modification as a few weeks or less. Therefore, the licensee cannot use the provisions of article 402 to authorize the long term suspension of the drawdown limitation. Such a long-term modification would be an amendment of license and must be processed as such.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number (P-2407-132) in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “PROTEST”, OR “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E9-26633 Filed 11-4-09; 8:45 am]

BILLING CODE 6717-01-P